DEPARTMENT OF COMMERCE

Foreign-Trade Zones Board

[B-44-2012]

Foreign-Trade Zone 61—San Juan, Puerto Rico; Authorization of Production Activity, Pfizer Pharmaceuticals, LLC (Subzone 61A), (Ibuprofen Pharmaceutical Products), Guayama, Puerto Rico

On June 13, 2012, the Puerto Rico Trade and Export Company, grantee of FTZ 61, submitted a notification of proposed production activity on behalf of Pfizer Pharmaceuticals, LLC (Subzone 61A) for its manufacturing facility located in Guayama, Puerto Rico. The notification was processed in accordance with the regulations of the FTZ Board (15 CFR part 400), including notice in the Federal Register inviting public comment (77 FR 36997, 6/20/2012). The FTZ Board has determined that no further review of the activity is warranted at this time. The production activity described in the notification is authorized, subject to the FTZ Act and the Board's regulations, including Section 400.14.

Dated: October 11, 2012.
Elizabeth Whiteman
Acting Executive Secretary.

[FR Doc. 2012-25475 Filed 10-15-12; 8:45 am]

BILLING CODE P